CORPORATION FOR NATIONAL AND COMMUNITY SERVICE

Information Collection; Submission for OMB Review, Comment Request

AGENCY: Corporation for National and Community Service.

ACTION: Notice.

SUMMARY: The Corporation for National and Community Service (CNCS) has submitted a public information collection request (ICR) entitled President's Higher Education Community Service Honor Roll Application for review and approval in accordance with the Paperwork Reduction Act of 1995, Public Law 104-13, (44 U.S.C. Chapter 35). Copies of this ICR, with applicable supporting documentation, may be obtained by calling Robert Bisi of CNCS at (202) 606-6638 or sending an email to rbisi@cns.gov. Individuals who use a telecommunications device for the deaf (TTY-TDD) may call 1-800-833-3722 between 8:00 a.m. and 8:00 p.m. Eastern Time, Monday through Friday.

ADDRESSES: Comments may be submitted, identified by the title of the information collection activity, to the Office of Information and Regulatory Affairs, Attn: Ms. Sharon Mar, OMB Desk Officer for CNCS, by either of the following two methods within 30 days from the date of publication in the Federal Register:

(1) By fax to: (202) 395-6974, Attention: Ms. Sharon Mar, OMB Desk Officer for the Corporation for National and Community Service; or

(2) By email to: smar@omb.eop.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on July 22, 2013. This comment period ended September 20, 2013. No public comments were received from this Notice.

Description: CNCS is seeking approval of the application for the President's Higher Education Community Service Honor Roll, which is used by higher education institutions to report their institution's exemplary commitment to community service in order to be recognized on the Honor Roll.

Type of Review: Renewal.

Agency: Corporation for National and Community Service.

Title: President's Higher Education Community Service Honor Roll.

OMB Number: 3045-0120.

Agency Number: None.

Affected Public: The affected publics are accredited institutions of higher education.

Total Respondents: 4,500.

Frequency: Annual.

Average Time per Response: Averages 1 Hour.

Estimated Total Burden Hours: 4,500.

Total Burden Cost (capital/startup): None.

Total Burden Cost (operating/maintenance): None.

Ted Miller,
Chief, Office of External Affairs.

[FR Doc. 2013-23057 Filed 9-20-13; 8:45 am]

BILLING CODE 6050-28-P